Title 3—

The President

Proclamation 10994 of November 25, 2025

Thanksgiving Day, 2025

By the President of the United States of America

A Proclamation

In 1789, just years after America's triumph over tyranny in the Revolutionary War, President George Washington established the first National Day of Thanksgiving, declaring “the duty of all Nations to acknowledge the providence of Almighty God, to obey His will, to be grateful for His benefits, and humbly to implore His protection and favor.” Decades later, in the midst of the bloody Civil War, President Abraham Lincoln implored the Nation to join in unity for “a day of Thanksgiving and Praise to our beneficent Father who dwelleth in the Heavens.” In every generation since, this spirit of reverence, trust, and gratitude has preserved our way of life and made America the strongest, greatest, and most resilient Nation the world has ever known.

From the pilgrims who settled our continent and the patriots who won our independence on the battlefield to the pioneers who tamed the west and the warriors who have preserved our freedom in distant lands, the spirit of gratitude and grit embodied by those who celebrated the first Thanksgiving more than 400 years ago have stood at the very heart of what it means to be an American.

This year, God has bestowed abundant blessings all across our land and indeed the entire world. As we give thanks to Him, we continue to advance our Nation through strong leadership and commonsense policy. As a result, the American economy is roaring back, we are making progress on lowering the cost of living, a new era of peace is sweeping around the world, our sovereignty is being swiftly restored, and the American spirit is coming back greater and more powerful than ever before.

As we prepare to celebrate 250 glorious years of American independence, this Thanksgiving, we summon the faith, resolve, and unflinching fortitude of the giants of American history who came before us. We vow to build a future that echoes their sacrifice. Above all, we offer our endless gratitude to Almighty God for His love, grace, and infinite blessings.

NOW, THEREFORE, I, DONALD J. TRUMP, President of the United States of America, by virtue of the authority vested in me by the Constitution and the laws of the United States, do hereby proclaim Thursday, November 27, 2025, as a National Day of Thanksgiving. I encourage all Americans to gather, in homes and places of worship, to offer a prayer of thanks to God for our many blessings.

IN WITNESS WHEREOF, I have hereunto set my hand this twenty-fifth day of November, in the year of our Lord two thousand twenty-five, and of the Independence of the United States of America the two hundred and fiftieth.

[FR Doc. 2025-21910

Filed 12-2-25; 11:15 am]

Billing code 3395-F4-P